DEPARTMENT OF TRANSPORTATION

Federal Railroad Administration

Environmental Impact Statement for the California High-Speed Train Project From Los Angeles to San Diego via the Inland Empire, CA

AGENCY: Federal Railroad Administration (FRA), Department of Transportation (DOT).

ACTION: Notice of intent to prepare an Environmental Impact Statement.

SUMMARY: This notice is to advise the public that FRA and the California High-Speed Rail Authority (Authority) will jointly prepare a project Environmental Impact Statement (EIS) and project Environmental Impact Report (EIR) for the Los Angeles to San Diego (LA-SD) Section of the Authority's proposed California High-Speed Train (HST) System in compliance with relevant State and Federal laws, in particular the National Environmental Policy Act (NEPA) and the California Environmental Quality Act (CEQA).

In 2001, the Authority and FRA started a tiered environmental review process for the HST system and in 2005, completed the first tier California High-Speed Train Program EIR/EIS (Statewide Program EIR/EIS) and approved the statewide HST System for intercity travel in California between the major metropolitan centers of Sacramento and the San Francisco Bay Area in the north, through the Central Valley, to Los Angeles and San Diego in the south. The approved HST System would be about 800 miles long, with electric propulsion and steel-wheel-on-steel-rail trains capable of maximum operating speeds of 220 miles per hour (mph) on a mostly dedicated steel-wheel-on-steel rail system of fully grade-separated, access controlled track with state-of-the-art safety, signaling, communication, and automated train control systems. In approving the HST System, the Authority and FRA also selected corridors/general alignments and station location options throughout most of the system. In 2008, the Authority and FRA completed a second program EIR/EIS to evaluate and select general alignments and station locations within the broad corridor between and including the Altamont Pass and the Pacheco Pass to connect the Bay Area and Central Valley portions of the HST System. The preparation of the LA-SD HST Project EIR/EIS will involve the development of preliminary engineering designs and the assessment of potential environmental effects associated with the construction, operation, and maintenance of the HST system, including track and ancillary facilities along the Union Pacific Railroad Company (UPRR)/Interstate 215/Interstate 15 corridor from Los Angeles to San Diego.

DATES: Written comments on the scope of the LA-SD HST Project EIR/EIS should be provided to the Authority by 5 p.m., Friday, November 20, 2009. Public scoping meetings are scheduled from October 13, 2009, to November 3, 2009, as noted below in the cities of San Diego, Escondido, Murrieta, Corona, Monterey Park, Riverside, West Covina, El Monte, Pomona, Ontario, and San Bernardino, California.

ADDRESSES: Written comments on the scope of this EIR/EIS should be sent to Mr. Dan Leavitt, Deputy Director, ATTN: LA-SD HST Project EIR/EIS, California High-Speed Rail Authority, 925 L Street, Suite 1425, Sacramento, CA 95814, or via e-mail with subject line “LA-SD HST Section via the Inland Empire” to: comments@hsr.ca.gov. Comments may also be provided orally or in writing at the scoping meetings scheduled from 3 p.m. to 7 p.m. at the following locations:

San Diego County

• October 13, 2009—Lawrence Family Jewish Community Center, 4126 Executive Drive, La Jolla, CA 92037.

• October 14, 2009—Ramada Limited San Diego Airport, 1403 Rosecrans Street, San Diego, CA 92106.

• October 15, 2009—Escondido Center for the Arts, 340 N. Escondido Blvd., Escondido, CA 92025.

Riverside County

• October 19, 2009—Murrieta Public Library, Eight Town Square, 24700 Adams Avenue, Murrieta, CA 92562.

• October 20, 2009—Corona Public Library, West Room, 650 S. Main Street, Corona, CA 92882.

• October 22, 2009—Cesar Chavez Community Center, Bobby Bonds Park, 2060 University Avenue, Riverside, CA 92507.

Los Angeles County

• October 21, 2009—Shepherd of the Hills United Methodist Church, Wesley Fellowship Hall, 333 South Garfield Avenue, Monterey Park, CA 91754.

• October 26, 2009—City of West Covina City Hall, Community Room, First Floor, 1444 West Garvey Avenue, West Covina, CA 91790.

• October 28, 2009—El Monte Community Center Grace T. Black Auditorium, 3130 Tyler Avenue, El Monte, California 91731.

• October 29, 2009—Pomona First Baptist Church, Room E-202, 586 N. Main Street, Pomona, California 91768.

San Bernardino County

• November 2, 2009—Ontario Airport Administrative Conference Rooms, 1923 E. Avion Street, Ontario, CA 91764.

• November 3, 2009—Norman Feldheym Central Library, Kellogg Room, 555 West 6th Street, San Bernardino, CA 92410.

Two regulatory agency scoping meetings have been scheduled on the following dates and times:

• U.S. Fish and Wildlife Service, 6010 Hidden Valley Road, Room 1, Carlsbad, CA 92011. October 15, 2009 from 9 a.m. to 12 noon.

• California Regional Water Quality Control Board, Santa Ana Region 8, Highgrove Room, 3737 Main Street, Suite 500, Riverside, CA 92501-3348. October 22, 2009 from 9 a.m. to 12 noon.

FOR FURTHER INFORMATION CONTACT: Mr. David Valenstein, Environmental Program Manager, Office of Railroad Development, Federal Railroad Administration, 1200 New Jersey Avenue, SE. (Mail Stop 20), Washington, DC 20590; (telephone: (202) 493-6368); or Mr. Dan Leavitt, Deputy Director, ATTN: LA-SD HST Project EIR/EIS, California High-Speed Rail Authority, 925 L Street, Suite 1425, Sacramento, CA 95814 (telephone: (916) 324-1541)).

SUPPLEMENTARY INFORMATION: The Authority was established in 1996 and is authorized and directed by statute to undertake the planning and development of a proposed statewide HST network that is fully coordinated with other public transportation services. The Authority adopted a Final Business Plan in June 2000, which reviewed the economic feasibility of an 800-mile-long HST capable of speeds in excess of 200 miles per hour on a mostly dedicated, fully grade-separated state-of-the-art track. The Authority released an updated Business Plan in November 2008.

The FRA has responsibility for overseeing the safety of railroad operations, including the safety of any proposed high-speed ground transportation system. FRA is also authorized to provide Federal funding for intercity passenger rail capital investments, including high-speed rail. For the proposed HST, it is anticipated that FRA would need to take certain regulatory actions prior to operation and may provide financial assistance for the project including grant funding.

In 2005, the Authority and FRA completed the Statewide Program EIR/EIS for the Proposed California High Speed Train System, as the first phase of a tiered environmental review process. The Authority certified the Statewide Program EIR under CEQA and approved the proposed HST System. FRA issued a Record of Decision on the Statewide Program EIR/EIS as required under NEPA. The Statewide Program EIR/EIS established the purpose and need for the HST system, and compared the proposed HST System with a No Project/No Action Alternative and a Modal Alternative. In approving the Statewide Program EIR/EIS, the Authority and FRA selected the HST Alternative, selected certain corridors/general alignments and general station locations for further study, incorporated mitigation strategies and design practices, and specified further measures to guide the development of the HST System during the site-specific project-level environmental review to avoid and minimize potential adverse environmental impacts. In the Statewide Program EIR/EIS, the Authority and FRA selected the UPRR/I-215/I-15 corridor for the LA-SD via the Inland Empire section of the HST.

The LA-SD HST Project EIR/EIS will tier from the Statewide Program EIR/EIS in accordance with Council on Environmental Quality (CEQ) regulations, (40 CFR 1508.28) and State CEQA Guidelines (14 California Code of Regulations 15168(b)). Tiering ensures that the LA-SD HST Project EIR/EIS builds upon program analysis and decisions made with the Statewide Program EIR/EIS.

The Project EIR/EIS will describe site-specific environmental impacts, identify specific mitigation measures to address those impacts, and incorporate design features to avoid and minimize potential adverse environmental impacts. The FRA and the Authority will assess the site characteristics, size, nature, and timing of the proposed project to determine whether the impacts are potentially significant and whether impacts can be avoided or mitigated. This project EIR/EIS will identify and evaluate reasonable and feasible site-specific alignment alternatives, and evaluate the impacts of construction, operation, and maintenance of the HST System. Information and documents regarding this HST environmental review process will be made available through the Authority's Internet site: http://www.cahighspeedrail.ca.gov/.

Purpose and Need: The purpose of the proposed HST System is to provide a new mode of high-speed intercity travel that would link major metropolitan areas of the State; interface with airports, mass transit, and highways; and provide added capacity to meet increased intercity travel demand in California in a manner sensitive to and protective of California's unique natural resources. The need for a HST System is directly related to the expected growth in population, and increases in intercity travel demand in California over the next twenty years and beyond. With the growth in travel demand, there will be an increase in travel delays arising from the growing congestion on California's highways and at its airports. In addition, there will be negative effects on the economy, quality of life, and air quality in and around California's metropolitan areas from an increasingly congested transportation system that will become less reliable as travel demand increases. The intercity highway system, commercial airports, and conventional passenger rail serving the intercity travel market are currently operating at or near capacity, and will require large public investments for maintenance and expansion to meet existing demand and future growth. The proposed HST System is designed to address some social, economic and environmental problems associated with transportation congestion in California.

Alternatives: The LA-SD HST Project EIR/EIS will consider a No Action or No Project Alternative and an HST Alternative for the LA-SD via the Inland Empire section.

No Action Alternative: The No Action Alternative (No Project or No Build) represents the conditions in the corridor as it existed in 2009, and as it would exist based on programmed and funded improvements to the intercity transportation system and other reasonably foreseeable projects through 2035, taking into account the following sources of information: the State Transportation Improvement Program (STIP) and Regional Transportation Plans (RTPs) for all modes of travel, airport plans, intercity passenger rail plans, city and county plans.

HST Alternative: The Authority proposes to construct, operate and maintain an electric-powered steel-wheel-on-steel-rail HST System, about 800 miles long, capable of operating speeds of 220 mph on mostly dedicated, fully grade-separated, access controlled tracks, with state-of-the-art safety, signaling, communication and automated train control systems. In the Statewide Program EIR/EIS, the Authority and FRA selected the Inland Empire alignment, which was divided into three segments: (1) Los Angeles to March Air Reserve Base (ARB); (2) March ARB to Mira Mesa; and (3) Mira Mesa to San Diego. Between LA Union Station and March ARB, the selected alignment generally follows the UPRR Riverside/Colton corridor. From March ARB to Mira Mesa the selected I-215/I-15 alignment generally follows the I-215 and then the I-15 corridor to Mira Mesa. There are two alignment options along Carroll Canyon and Miramar Road that would directly serve downtown San Diego. Both the Carroll Canyon and Miramar Road alignment options between Mira Mesa and San Diego are preferred for further investigation.

Since 2008, the Authority has collaborated with the Southern California High-Speed Rail Inland Corridor Group (SoCal ICG), which was formed by a Memorandum of Understanding (MOU) signed by the Authority and Southern California Association of Governments, San Diego Association of Governments, San Bernardino Associated Governments, the Riverside County Transportation Commission and the San Diego County Regional Airport Authority. One of the purposes of the SoCal ICG is to demonstrate partnership with regional entities and to assist the Authority with the review of the Program EIR/EIS alternative alignments and station locations and in identifying additional alternative project alignments and optional station locations to be studied in the LA-SD Project EIR/EIS. The Authority has consulted with the SoCal ICG on a monthly basis since the summer of 2008.

To support the Project EIR/EIS process, the SoCal ICG partner agencies formed four Technical Working Groups (TWGs) in Los Angeles, Riverside, San Bernardino, and San Diego Counties to assist the Authority in refining the programmatic LA-SD alignment adopted in 2005. The TWGs met with the Authority in November 2008, February 2009 and July/August 2009 to discuss additional alternative alignments and optional station locations to be further considered in the Project EIR/EIS along with the alignment alternatives and station locations selected with the Program EIR/EIS.

These alternative project alignments include: alternatives to the UPRR Riverside/Colton alignment in Los Angeles County and San Bernardino County along the Metrolink, I-10, I-605, Holt Avenue and State Route 60 (SR-60) corridors, an alternative alignment along the I-15 corridor through San Bernardino County and Riverside County, and an alternative alignment west of the University City corridor in San Diego County. Engineering studies will be undertaken as part of this Project EIR/EIS that will examine and refine alignments in the UPRR/I-215/I-15 corridor. The entire alignment would be grade-separated from existing roadways. The options to be considered for the design of grade-separated roadway crossings would include (1) depressing the street to pass under the rail line; (2) elevating the street to pass over the rail line; and (3) leaving the street as-is and constructing rail line improvements to pass over or under the local street. In addition, alternative sites for right-of-way maintenance, train storage facilities and a train service and inspection facility will be evaluated in the LA-SD Section project area.

Preferred station locations selected by the Authority and FRA through the Statewide Program EIR/EIS will be evaluated in the LA-SD HST Project EIR/EIS. These stations are East San Gabriel Valley Station in City of Industry, Ontario Airport Connector Station, and Riverside County/East San Bernardino County near the University of California Riverside. Station locations from Murrieta to San Diego include the Temecula Valley Station in Murrieta at the I-15/I-215 interchange, Escondido Station Area along the I-15, Mid-San Diego County Station at University City, and San Diego Station-Downtown at the Santa Fe Depot. As part of the early agency outreach and input from the TWGs, the following alternative station locations were identified for further evaluation: El Monte, West Covina, and Pomona via the I-605, Holt Avenue, and I-10 corridors; San Bernardino via the SANBAG/Metrolink corridor; Riverside-UCR, Riverside-March ARB, and Murrieta via the I-215 corridor; Corona and Escondido Transit Center via the I-15 corridor, University Towne Center via the University City corridor; and San Diego International Airport at Lindbergh Field.

Probable Effects: The purpose of the EIR/EIS process is to evaluate, in a public setting, the potential effects of the proposed project on the physical, human, and natural environment. The FRA and Authority will continue the tiered evaluation of significant environmental, social, and economic impacts of the construction and operation of the LA-SD Section of the HST System. Impact areas to be addressed include transportation impacts; safety and security; land use and zoning; land acquisition, displacements, and relocations; cumulative and secondary impacts; agricultural land impacts; cultural resources impacts, including impacts on historical and archaeological resources and parklands/recreation areas; neighborhood compatibility and environmental justice; natural resource impacts including air quality, wetlands, water resources, noise, vibration, energy, wildlife and ecosystems, including endangered species. Measures to avoid, minimize, and mitigate adverse impacts will be identified and evaluated.

The LA-SD HST Project EIR/EIS will be prepared in accordance with FRA's Procedures for Considering Environmental Impacts (64 FR 28545 (May 26, 1999)) and will address, as necessary, other applicable statutes, regulations, and executive orders, including the Clean Air Act, Section 404 of the Clean Water Act, Section 106 of the National Historic Preservation Act of 1966, Section 4(f) of the Department of Transportation Act, the Endangered Species Act, and Executive Order 12898 on Environmental Justice.

This EIR/EIS process will also continue the NEPA/Clean Water Act Section 404 integration process established through the Statewide Program EIR/EIS process. The EIR/EIS will evaluate project alignment alternatives, and station and maintenance facility locations to support a determination of the Least Environmentally Damaging Practicable Alternative (LEDPA) by the U.S. Army Corps of Engineers.

Scoping and Comments: FRA encourages broad participation in the EIS process during scoping and review of the resulting environmental documents. Comments are invited from all interested agencies and the public to ensure the full range of issues related to the proposed action and reasonable alternatives are addressed and all significant issues are identified. In particular, FRA is interested in learning whether there are areas of environmental concern where there might be a potential for significant site-specific impacts from the LA-SD Section of the HST System. Public agencies with jurisdiction are requested to advise FRA and the Authority of the applicable permit and environmental review requirements of each agency, and the scope and content of the environmental information germane to the agency's statutory responsibilities relevant to the proposed project. Public agencies are requested to advise FRA if they anticipate taking a major action in connection with the proposed project and if they wish to cooperate in the preparation of the Project EIR/EIS. Public scoping meetings have been scheduled as an important component of the scoping process for both the State and Federal environmental review. The scoping meetings described in this Notice will also be the subject of additional public notification.

FRA is seeking participation and input of all interested Federal, State, and local agencies, Native American groups, and other concerned private organizations or individuals on the scope of the EIR/EIS. Implementation of the LA-SD Section of the HST System is a Federal undertaking with the potential to affect historic properties. As such, it is subject to the requirements of Section 106 of the National Historic Preservation Act of 1966 (16 U.S.C. 470f). In accordance with regulations issued by the Advisory Council on Historic Preservation, 36 CFR part 800, FRA intends to coordinate compliance with Section 106 of this Act with the preparation of the EIR/EIS, beginning with the identification of consulting parties through the scoping process, in a manner consistent with the standards set out in 36 CFR 800.8.

Issued in Washington, DC on September 18, 2009.
Mark E. Yachmetz,
Associate Administrator for Railroad Development, Federal Railroad Administration.

[FR Doc. E9-23003 Filed 9-23-09; 8:45 am]

BILLING CODE 4910-06-P